DEPARTMENT OF TRANSPORTATION

Federal Aviation Administration

[Docket No. FAA-2022-1254]

Agency Information Collection Activities: Requests for Comments; Clearance of a Renewed Approval of Information Collection: FAA Airport Data and Information

AGENCY: Federal Aviation Administration (FAA), DOT.

ACTION: Notice and request for comments.

SUMMARY: In accordance with the Paperwork Reduction Act of 1995, FAA invites public comments about our intention to request the Office of Management and Budget (OMB) approval to renew an information collection. The collection involves aeronautical information the FAA uses to carry out agency missions related to flight safety, flight planning, airport engineering and federal grant analysis, airport actions, aeronautical chart and flight information publications, and the promotion of air commerce as required by statute. The information will be used for airspace studies conducted under 49 U.S.C. 329(b) and published in flight information handbooks and charts for pilot use. We have renamed and updated the collection, previously called the FAA Airport Master Record, to incorporate several related tools using this data that are made available and processed via the same online system—the Airport Data and Information Portal (ADIP).

DATES: Written comments should be submitted by September 23, 2022.

ADDRESSES: Please send written comments:

By Electronic Docket: www.regulations.gov (Enter docket number into search field).

By Mail: Andrew Goldsmith, Airport Data and Airspace Branch (AAS-120), Office of Airport Safety and Standards, Federal Aviation Administration, 800 Independence Avenue SW, Washington, DC 20591.

By Fax: 202-267-3688.

FOR FURTHER INFORMATION CONTACT: Andrew Goldsmith by email at: Andrew.E.Goldsmith@faa.gov; phone: 202-267-6549.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0015.

Title: FAA Airport Data and Information.

Form Numbers: 5010-1, 5010-2, 5010-3, 5010-4.

Type of Review: Renewal of an information collection.

Background: 49 U.S.C. 329(b) empowers and directs the Secretary of Transportation to collect and disseminate information on civil aeronautics. Aeronautical information is required by the FAA to carry out agency missions agency missions related to flight safety, flight planning, airport engineering and federal grant analysis, aeronautical studies and airport actions, aeronautical chart and flight information publications, and the promotion of air commerce as required by statute. The existing FAA Airport Master Record is now fully online and part of a suite of tools using aeronautical data to support the origination and distribution of airport data and information. Modules include the Airports Geographic Information System (AGIS), Airport Master Record (AMR), Modification of Standards (MOS), Runway Airspace Management (RAM), and Runway Safety Area Inventory (RSAI) as well as Registration. The burden per respondent will depend on which module or modules the respondent is using as well as the complexity of submitted projects.

We have renamed and updated the collection, previously called the FAA Airport Master Record, to reflect the consolidation of these tools and processes into a single online system—the Airport Data and Information Portal (ADIP). ADIP provides airports with direct access to their data and the ability to submit changes to it according to defined business rules. We are cancelling the PDF forms previously used to collect Airport Master Record data as they are no longer used for any collection activities.

Respondents: Approximately 10,000 airport owners/managers and consultants.

Frequency: Information is collected on occasion.

Estimated Average Burden per Response: 1-5 hours, depending on the module and complexity of the project.

Estimated Total Annual Burden: 10,000-50,000 hours for all submissions.

Issued in Washington, DC, on September 19, 2022.
Andrew Goldsmith,
Aeronautical Information Specialist, Airport Data and Airspace Branch, Office of Airport Safety and Standards.

[FR Doc. 2022-20598 Filed 9-22-22; 8:45 am]

BILLING CODE 4910-13-P